DEPARTMENT OF HOMELAND SECURITY

[Docket No. DHS-2025-0006]

Notice of the Establishment of the Federal Emergency Management Agency Review Council

AGENCY: Department of Homeland Security (DHS).

ACTION: Notice of establishment of the Federal Emergency Management Agency Review Council.

SUMMARY: The goal of the FEMA Review Council is to advise the President, through the Assistant to the President for National Security Affairs, the Assistant to the President for Homeland Security, and the Director of the Office of Management and Budget, on the existing ability of FEMA to capably and impartially address disasters occurring within the United States and shall advise the President on all recommended changes related to FEMA to best serve the national interest. This notice is not a solicitation for membership.

FOR FURTHER INFORMATION CONTACT: Patrick Powers, telephone (202) 891-2283, email FEMAreviewcouncil@hq.dhs.gov.

SUPPLEMENTARY INFORMATION: On January 24, 2025, the President established the Federal Emergency Management Agency Review Council (FEMA Review Council) through Executive Order 14180, Council to Assess the Federal Emergency Management Agency. The Federal responses to Hurricane Helene and other recent disasters demonstrate the need to drastically improve the Federal Emergency Management Agency's (“FEMA's”) efficacy, priorities, and competence, including evaluating whether FEMA's bureaucracy in disaster response ultimately harms the agency's ability to successfully respond. Despite obligating nearly $30 billion in disaster aid each of the past three years, FEMA has managed to leave vulnerable Americans without the resources or support they need when they need it most.

There are serious concerns of political bias in FEMA. Indeed, at least one former FEMA responder has stated that FEMA managers directed her to avoid homes of individuals supporting the campaign of Donald J. Trump for President. And it has lost mission focus, diverting limited staff and resources to support missions beyond its scope and authority, spending well over a billion dollars to welcome illegal aliens.

Americans deserve an immediate, effective, and impartial response to and recovery from disasters. FEMA therefore requires a full-scale review, by individuals highly experienced at effective disaster response and recovery, who shall recommend to the President improvements or structural changes to promote the national interest and enable national resilience.

The Council shall be composed of not more than 20 members appointed by the President and serving at the pleasure of the President. The Secretary of Homeland Security and the Secretary of Defense shall be members of the Council. The remaining members shall include relevant agency heads and distinguished individuals and representatives from sectors outside of the Federal Government and have diverse perspectives and expertise in disaster relief and assistance, emergency preparedness, natural disasters, Federal-State relationships, and budget management.

Dated: February 18, 2025.
Michael J. Miron,
Committee Management Officer.

[FR Doc. 2025-02916 Filed 2-20-25; 8:45 am]

BILLING CODE 9112-FN-P